Memorandum of December 18, 2018

Establishment of United States Space Command as a Unified Combatant Command

Memorandum for the Secretary of Defense

Pursuant to my authority as the Commander in Chief and under section 161 of title 10, United States Code, and in consultation with the Secretary of Defense and the Chairman of the Joint Chiefs of Staff, I direct the establishment, consistent with United States law, of United States Space Command as a functional Unified Combatant Command. I also direct the Secretary of Defense to recommend officers for my nomination and Senate confirmation as Commander and Deputy Commander of the new United States Space Command.

I assign to United States Space Command: (1) all the general responsibilities of a Unified Combatant Command; (2) the space-related responsibilities previously assigned to the Commander, United States Strategic Command; and (3) the responsibilities of Joint Force Provider and Joint Force Trainer for Space Operations Forces. The comprehensive list of authorities and responsibilities for United States Space Command will be included in the next update to the Unified Command Plan.

Consistent with section 161(b)(2) of title 10, United States Code, and section 301 of title 3, United States Code, you are directed to notify the Congress on my behalf.

You are authorized and directed to publish this memorandum in the Federal Register.

THE WHITE HOUSE,

Washington, December 18, 2018

[FR Doc. 2018-27953

Filed 12-20-18; 8:45 am]

Billing code 5001-06-P